ENVIRONMENTAL PROTECTION AGENCY

40 CFR Part 52

[Il221-1b; FRL-7657-9]

Approval and Promulgation of Implementation Plans; Illinois

AGENCY: Environmental Protection Agency (EPA).

ACTION: Proposed rule.

SUMMARY: The EPA is approving a site-specific revision to the Illinois volatile organic compound (VOC) State Implementation Plan (SIP) for the Horween Leather Company (Horween) in Chicago, IL. By its submittal dated May 28, 2003, the Illinois Environmental Protection Agency (Illinois EPA) requested that EPA approve a site-specific rule that would change the VOC control requirements that would apply to a small amount of specialty leathers and allow them to be produced at Horween's leather production facility in Chicago. This request is approvable because it satisfies reasonably available control technology (RACT) and is a more suitable control measure for certain of its specialty leather coating operations than the existing rule which this amends. In the final rules section of this Federal Register, we are approving the SIP revision as a direct final rule without prior proposal, because we view this as a noncontroversial revision amendment and anticipate no adverse comments. A detailed rationale for the approval is set forth in the direct final rule. If no adverse comments are received in response to this proposed rule, no further activity is contemplated in relation to this proposed rule. If we receive adverse comments, the direct final rule will be withdrawn and all public comments received will be addressed in a subsequent final rule based on this proposed rule. We will not institute a second comment period on this action. Any parties interested in commenting on this action should do so at this time.

DATES: Written comments must be received on or before June 23, 2004.

Comments may also be submitted electronically or through hand delivery/courier, please follow the detailed instructions described in the Address section and the Supplementary Information section of the related direct final rule which is published in the Rules section of this Federal Register.

ADDRESSES: Written comments should be sent to: J. Elmer Bortzer, Chief, Criteria Pollutant Section (AR-18J), EPA Region 5, 77 West Jackson Boulevard, Chicago, Illinois 60604-3590. bortzer.jay@epa.gov.

FOR FURTHER INFORMATION CONTACT: Steven Rosenthal, Environmental Engineer, Criteria Pollutant Section, Air Programs Branch (AR-18J), EPA Region 5, 77 West Jackson Boulevard, Chicago, Illinois 60604, (312) 886-6052 rosenthal.steven@epa.gov.

SUPPLEMENTARY INFORMATION: For additional information, see the Direct Final notice which is located in the Rules section of this Federal Register. Copies of the request and the EPA's analysis are available for inspection at the above address. (Please telephone Steven Rosenthal at (312) 886-6052 before visiting the Region 5 Office.)

Dated: April 26, 2004.
Bharat Mathur,
Acting Regional Administrator, Region 5.

[FR Doc. 04-11558 Filed 5-21-04; 8:45 am]

BILLING CODE 6560-50-P